DEPARTMENT OF AGRICULTURE

Forest Service

North Gifford Pinchot National Forest Resource Advisory Committee Meeting Notice

AGENCY: Forest Service, USDA.

ACTION: Notice of meeting.

SUMMARY: The North Gifford Pinchot National Forest Resource Advisory Committee will meet on Wednesday, June 9, 2010 at the Salkum Fire Hall, 2495 U.S. Highway 12, Salkum, Wash. The meeting will begin at 9 a.m. and continue until 3 p.m. The purpose of the meeting is to: Review ongoing Title II and III projects, elect a chairperson and vice-chair, set an indirect project percentage, review summary of Title II and Title III accomplishments and make recommendations on 8 proposals for Title II funding of projects under the Secure Rural Schools and County Self-Determination Act of 2000.

All North Gifford Pinchot National Forest Resource Advisory Committee meetings are open to the public. Interested citizens are encouraged to attend. The “open forum” provides opportunity for the public to bring issues, concerns, and discussion topics to the Advisory Committee. The “open forum” is scheduled to occur at 9:10 a.m. Interested speakers will need to register prior to the open forum period. The committee welcomes the public's written comments on committee business at any time.

FOR FURTHER INFORMATION CONTACT: Direct questions regarding this meeting to Chris Strebig, Public Affairs Specialist, at (360) 891-5005, or write to Forest Headquarters Office, Gifford Pinchot National Forest, 10600 NE. 51st Circle, Vancouver, WA 98682.

Dated: May 4, 2010.
Janine Clayton,
Forest Supervisor.

[FR Doc. 2010-11166 Filed 5-12-10; 8:45 am]

BILLING CODE 3410-11-M